DEPARTMENT OF DEFENSE

Department of the Army; Corps of Engineers

Intent To Prepare a Draft Environmental Impact Statement for the Hillsboro Aquifer Storage & Recovery Pilot Project adjacent to the Hillsboro Canal, Palm Beach County, FL

AGENCY: Department of the Army, U.S. Army Corps of Engineers.

ACTION: Notice of intent.

SUMMARY: The Jacksonville District, U.S. Army Corps of Engineers (Corps), intends to prepare an integrated Pilot Project Design Report and Draft Environmental Impact Statement (DEIS) for the Hillsboro Aquifer Storage and Recovery (ASR) Pilot Project. The study is a cooperative effort between the Corps and the South Florida Water Management District (SFWMD), which is also a cooperating agency for this DEIS. One of the recommendations of the final report of the Central & South Florida (C&SF) Comprehensive Review Study (Restudy) was the Hillsboro ASR Pilot Project. This project will determine the feasibility of using ASR technology for water storage, and the capacity and treatment capabilities of the impoundment and horizontal wells. It will also collect scientific data to address the uncertainties associated with the ASR technology and for future optimization and design studies.

FOR FURTHER INFORMATION CONTACT: Ms. Rebecca Weiss, U.S. Army Corps of Engineers, Planning Division, Environmental Branch, P.O. Box 4970, Jacksonville, FL 32232-0019, or by telephone at 904-899-5025.

SUPPLEMENTARY INFORMATION: a. Authorization: Section 101(a)(16) of the Water Resources Development Act of 1999 (WRDA 1999) (Pub. L. 106-53) authorized construction of the two pilot projects, Lake Okeechobee Aquifer Storage and Recovery (ASR) and Hillsboro ASR. Although these two pilot projects were authorized separate from the Central and Southern Florida Project, they are also integral elements of the Comprehensive Everglades Restoration Plan (CERP) as authorized in Title VI or WRDA 2000 (Pub. L. 105-541, Section 601). Therefore, these two projects were included in the CERP Design Agreement between the USACE and the local sponsor, the South Florida Water Management District (SFWMD) and required design studies are now proceeding.

b. Project Scope: The Pilot project will determine the feasibility of ASR technology for water storage at the site, the water quality characteristics of source waters, native subsurface waters and recovered waters and appropriate water treatment requirements, the efficiency of horizontal collection wells technology, and recommend operational goals for a full scale ASR project at the Hillsboro site. The pilot project includes the construction of 3 ASR wells into the upper Floridian Aquifer with design capacities of 5 million gallons a day per well, a 50-acre impoundment structure with a subsurface horizontal well seepage and groundwater collection system, pre-injection and post recovery water treatment facilities, and other associated piping, treatment systems, and monitoring wells between the surface collection and discharge sites.

Operational plans for the test pilot are to collect surface water from horizontal wells under the 50-acre impoundment, treat collected water to drinking water standards, and inject water into the Floridan Aquifer System for a minimum of two cycle tests. Each cycle test includes a period of water storage followed by a period of recovery and discharge. Recovered water will be monitored and treated, if needed, to insure compliance with appropriate water quality standards prior to discharge into surface water or canal.

c. Preliminary Alternatives: Formulation of alternative plans will involve the selection of the most suitable site for the ASR wells, impoundment depth and configuration, collection well configuration, water treatment technologies, investigation of intake and discharge sites, and investigation of best configuration of surface facilities of the project.

The Environmental Impact Statement (EIS) evaluation of the pilot project will include an evaluation of adverse environmental impacts, including but not limited to, water quality, socio-economic, archaeological and biological. In addition to adverse impacts, the evaluation will also focus on how well the plans perform with regard to specific technologic performance measures.

d. Issues: The EIS will consider impacts on water quality, ecosystem habitat, threatened and endangered species, health and safety, aesthetics and recreation, fish and wildlife resources, cultural resources, water availability, flood protection, and other potential impacts identified through scoping, public involvement, and interagency coordination.

e. Scoping: Initial project scoping began in January 2001 at a public meeting in Palm Beach County. Additional workshops have been held in West Palm Beach on January 2002 to identify additional public concerns related to ASR and regional implementation. A scoping letter will be issued in May 2002 to interested parties. In addition, all parties are invited to participate in the scoping process by identifying any additional concerns on issues, studies needed, alternatives, procedures, and other matters related to the scoping process. At this time, there is no plan for a public scoping meeting.

f. Public Involvement: We invite the participation of affected Federal, state and local agencies, affected Indian tribes, and other interested private organizations and parties.

g. Coordination: The proposed action is being coordinated with the U.S. Fish and Wildlife Service (FWS) and the National Marine Fisheries Service under Section 7 of the Endangered Species Act, with the FWS under the Fish and Wildlife Coordination Act, and with the State Historic Preservation Officer.

h. Other Environmental Review and Consultation: The proposed action would involve evaluation for compliance with guidelines pursuant to Section 404(b) of the Clean Water Act; application (to the State of Florida) for Water Quality Certification pursuant to Section 401 of the Clean Water Act; certification of state lands, easements and right of ways, and determination of Coastal Zone Management Act consistency.

i. Agency Role: As cooperation agency, non-Federal sponsor, and leading local expert, SFWMD will provide information and assistance on the resources to be impacted and alternatives.

j. DEIS Preparation: The integrated Pilot Project Design Report, including a DEIS, is currently estimated for publication in June 2003.

Dated: May 15, 2002.
James C. Duck,
Chief, Planning Division.

[FR Doc. 02-13687 Filed 5-30-02; 8:45 am]

BILLING CODE 3710-AJ-M